DEPARTMENT OF STATE

22 CFR Part 124

[Public Notice: 12506; Docket No. 2024-0024]

RIN 1400-AF84

International Traffic in Arms Regulations: Exemption for Defense Trade and Cooperation Among Australia, the United Kingdom, and the United States; Correction

AGENCY: Department of State.

ACTION: Interim final rule; correction.

SUMMARY: The Department of State (the Department) is correcting an interim final rule that appeared in the Federal Register on August 20, 2024 creating an exemption for defense trade and cooperation among Australia, the United Kingdom, and the United States and related amendments.

DATES: Effective on September 1, 2024.

FOR FURTHER INFORMATION CONTACT: Ms. Engda Wubneh, Foreign Affairs Officer, Office of Defense Trade Controls Policy, U.S. Department of State, telephone (771) 205-9566; email DDTCCustomerService@state.gov, ATTN: Regulatory Change, ITAR Section 126.7 Australia, the United Kingdom, and the United States Exemption.

SUPPLEMENTARY INFORMATION: In FR Doc. 2024-18043, beginning on page 67270 in the Federal Register of Tuesday, August 20, 2024, the following correction is made:

§ 124.8 [Corrected]

1. On page 67290, in the second column, in part 124, in amendment 4, the instruction “Amend § 124.8 by revising paragraph (a) to read as follows:” is corrected to read “Amend § 124.8 by revising paragraph (a)(5) to read as follows:”

Stanley L. Brown,
Acting Assistant Secretary, Bureau of Political-Military Affairs, Department of State.

[FR Doc. 2024-19262 Filed 8-27-24; 8:45 am]

BILLING CODE 4710-25-P